DEPARTMENT OF DEFENSE

Office of the Secretary

[Docket ID: DOD-2023-OS-0092]

Submission for OMB Review; Comment Request

AGENCY: Office of the Under Secretary of Defense for Personnel and Readiness (OUSD(P&R)), Department of Defense (DoD).

ACTION: 30-Day information collection notice.

SUMMARY: The DoD has submitted to the Office of Management and Budget (OMB) for clearance the following proposal for collection of information under the provisions of the Paperwork Reduction Act.

DATES: Consideration will be given to all comments received by April 17, 2024.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Mr. Reginald Lucas, 571-372-7574, or whs.mc-alex.esd.mbx.dd-dod-information-collections@mail.mil.

SUPPLEMENTARY INFORMATION: Section 572 of the National Defense Authorization Act (NDAA) for Fiscal Year (FY) 2013 required commanders of each military command to conduct a climate assessment of the command or unit for purposes of preventing sexual assault. A subsequent November 2015 memo from the Acting Under Secretary of Defense for Personnel and Readiness (USD P&R), and further a 2022 DoD Instruction (DoDI 6400.11) designated the DEOCS as the survey tool to support the NDAA requirement for a DoD command climate assessment program. A DEOCS is conducted annually in all active duty and Reserve component DoD units and DoD civilian personnel organizations. Also included in the DEOCS population are active duty and Reserve component members of the Coast Guard, students and staff at the US Merchant Marine Academy, and foreign nationals working for the DoD. The survey is web-based and is a census of the commander's unit. The core survey questions are organized into three main categories that include (1) unit experience, (2) leadership, and (3) behaviors and personal experience. The DEOCS includes a module collecting information on the attitudes and experiences of Active duty and Reserve component military members related to racial/ethnic relations in the military. The module content is derived from the Armed Forces Workplace and Equal Opportunity (WEO) survey (OMB license 0704-0631) and provides primary data on estimated prevalence rates of racial/ethnic harassment and discrimination and climate that is required by the Secretary of Defense biennially (Esper 2020). To reduce survey burden for Active and Reserve component members, key measures previously collected under OMB license 0704-0659 will be included as a module to the DEOCS for a subset of Active and Reserve component DEOCS respondents.

Title; Associated Form; and OMB Number: Defense Organizational Climate Survey (DEOCS) 5.1; OMB Control Number 0704-0659.

Type of Request: Revision.

Number of Respondents: 1,589,098.

Responses per Respondent: 1.

Annual Responses: 1,589,098.

Average Burden per Response: 35 minutes.

Annual Burden Hours: 926,974.

Needs and Uses: The purpose of the Defense Organizational Climate Survey (DEOCS) is to assess command climate at the unit/organizational level across the Department of Defense (DoD) and serves as a tool, helping commanders and leaders improve their command climate. Military commanders and DoD civilian organization leaders are required to administer a DEOCS to their unit or organization annually. The DEOCS was initially developed in response to DoD Instruction (DoDI) 1350.2 which mandated the creation of a Military Equal Opportunity program as well as the administration of a command climate assessment. The National Defense Authorization Act (NDAA) for FY 2013 (Section 572)—and amended by section 1721 of the NDAA FY 2014—further mandates the climate assessment within all DoD organizations for purposes of preventing sexual assaults. A subsequent November 2015 memo from the Acting Under Secretary of Defense for Personnel and Readiness (USD P&R) designated the DEOCS as the survey tool to support the NDAA requirement for a DoD command climate assessment program. A May 2019 memo from the Acting Secretary of Defense directed that the goals of the DEOCS include developing and providing leaders with assessment tools to “help them with developing an appropriate course of action from a suite of interventions and provide them with feedback on their impact of their efforts.” The DoD Instruction (DoDI) 6400.11 further specified the requirements for DEOCS fielding.

The DEOCS will be administered to Active Duty and Reserve component members, DoD Civilians, and Military Service Academy (MSA) and MSA Preparatory School members (hereafter, MSA Prep School) in order to meet this statutory requirement for the DoD. The universe of the DoD community also includes foreign nationals who are employed by the DoD. Additionally, the DEOCS will also include Active, Reserve, and MSA components of the United States Coast Guard and students/staff at the United States Merchant Marine Academy. The DEOCS includes a module fielded to a subset of Active Duty and Reserve component members to collect information on their attitudes and experiences related to racial/ethnic relations in the military.

The statutory and policy requirements for the DEOCS, including the module, can be found in the following:

• FY13 NDAA, Section 572

• FY14 NDAA, Section 1721

• DoD Instruction (DoDI) 6400.11, “DoD Integrated Primary Prevention Policy for Prevention Workforce and Leaders”

• DoD Instruction (DoDI) 1350.2, “DoD Military Equal Opportunity Program”

• Immediate Actions to Improve Diversity & Inclusion (Esper, 2020)

Affected Public: Individuals and Households.

Frequency: As required.

Unit commanders and organizational leaders must administer a DEOCS yearly, within the annual fielding window, unless they are unable to do so as a result of mission requirements. The annual fielding window for the DEOCS 5.1 is from August 1 to November 30, however, the DEOCS is available for fielding continuously throughout the year for units or organizations that cannot field during the survey window. Currently, there is not a standardized method for defining at which level in the hierarchy units are required to take the DEOCS, how to define a unit, or how to define unit membership. As a result, there may be overlap between DEOCS units resulting in individuals taking more than one DEOCS. DoDI 6400.11 was established in 2022 and reduces occurrences of overlapping DEOCS. The DEOCS module is field in response to a 2020 Secretary of Defense action memorandum (Esper, 2020) requiring the biennial survey of Active Duty and Reserve component members regarding their attitudes and experiences related to racial/ethnic relations in the military and replaces (OMB Control Number 0704-0659) to reduce cost and survey burden.

Respondent's Obligation: Voluntary.

OMB Desk Officer: Ms. Jasmeet Seehra.

You may also submit comments and recommendations, identified by Docket ID number and title, by the following method:

• Federal eRulemaking Portal: http://www.regulations.gov. Follow the instructions for submitting comments.

Instructions: All submissions received must include the agency name, Docket ID number, and title for this Federal Register document. The general policy for comments and other submissions from members of the public is to make these submissions available for public viewing on the internet at http://www.regulations.gov as they are received without change, including any personal identifiers or contact information.

DOD Clearance Officer: Mr. Reginald Lucas.

Requests for copies of the information collection proposal should be sent to Mr. Reginald Lucas at whs.mc-alex.esd.mbx.dd-dod-information-collections@mail.mil.

Dated: March 12, 2024.
Aaron T. Siegel,
Alternate OSD Federal Register Liaison Officer, Department of Defense.

[FR Doc. 2024-05666 Filed 3-15-24; 8:45 am]

BILLING CODE 6001-FR-P